DEPARTMENT OF DEFENSE

Office of the Secretary

[Transmittal No. 24-0R]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0R.

Dated: January 13, 2026.
Stephanie J. Bost,
Alternate OSD Federal Register Liaison Officer, Department of Defense.

BILLING CODE 6001-FR-P

BILLING CODE 6001-FR-C

Transmittal No. 24-0R

REPORT OF ENHANCEMENT OR UPGRADE OF SENSITIVITY OF TECHNOLOGY OR CAPABILITY (SEC. 36(B)(5)(C), AECA)

(i) Purchaser: Government of Qatar

(ii) Sec. 36(b)(1), AECA Transmittal No.: 17-22

Date: November 1, 2017

Implementing Agency: Air Force

Funding Source: National Funds

(iii) Description: On November 1, 2017, Congress was notified by congressional certification transmittal number 17-22 of the possible sale, under Section 36(b)(1) of the Arms Export Control Act, of design and construction services, new parking/loading ramps, hot cargo pads, taxiways, hangars, back shops, alert facilities, weapons storage areas, hardened shelters, squadron operations facilities, maintenance facilities, training facilities, information technology support and cyber facilities, force protection support facilities, squadron operations facilities, other F-15QA related support structures, construction/facilities/design services, cybersecurity services, mission critical computer resources, support services, force protection services, and other related elements of logistics and program support. The total estimated cost was $1.1 billion. There was no Major Defense Equipment (MDE) associated with this sale.

This transmittal notifies increased value for continued design and construction services and other related elements of logistics and program support. The total non-MDE value will increase by $0.52 billion, resulting in a new non-MDE and overall total case value of $1.62 billion. There is no MDE included in this potential sale.

(iv) Significance: The proposed sale will support F-15QA CONUS basing construction to increase Qatar's interoperability objectives in combined operations supporting the United States (U.S.).

(v) Justification: This proposed sale will support the foreign policy and national security objectives of the U.S. by helping to improve the security of a friendly country that continues to be an important force for political stability and economic progress in the Middle East.

(vi) Date Report Delivered to Congress: March 20, 2025

[FR Doc. 2026-00774 Filed 1-15-26; 8:45 am]

BILLING CODE 6001-FR-P